DEPARTMENT OF JUSTICE

Notice of Lodging of Proposed Settlement Agreement Under the Comprehensive Environmental Response, Compensation and Liability Act (CERCLA)

Notice is hereby given that on September 19, 2008, a proposed Settlement Agreement regarding the East Helena Superfund Site, Operable Unit No. 2 (the Site), was filed with the United States Bankruptcy Court for the Southern District of Texas in In re Asarco LLC, No. 05-21207 (Bankr. S.D. Tex.) (Docket No. 9231). The settlement reserves claims for any liabilities for property owned by Debtors and for groundwater contamination, among other things. The proposed Agreement entered into by the United States on behalf of the Environmental Protection Agency (EPA), the State of Montana, and Asarco LLC and Asarco Master Inc. (the Debtors), provides, inter alia, that with respect to the Site, (1) the United States on behalf of EPA shall have an allowed general unsecured claim of $13,209,783 for past and future response costs, and (2) the Debtors will not oppose disbursements out of the Asarco Environmental Trust up to $5,773,371 to perform work described by EPA's proposed plan for Site remediation.

The Department of Justice will receive comments relating to the proposed Agreement for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to In re Asarco LLC, DJ Ref. No. 90-11-3-08633.

The proposed Agreement may be examined at the Office of the United States Attorney for the Southern District of Texas, 800 North Shoreline Blvd, #500, Corpus Christi, TX 78476-2001, at the office of the Environmental Protection Agency Region 8, 1595 Wynkoop Street, Denver, Colorado 80202-1129. During the public comment period, the proposed Agreement may also be examined on the following Department of Justice Web site, http://www.usdoj.gov/enrd/Consent_Decrees.html. A copy of the proposed Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.50 (25 cents per page reproduction cost) payable to the U.S. Treasury.

Robert E. Maher, Jr.,
Section Chief, Environmental Enforcement Section, Environment and Natural Resources Division.

[FR Doc. E8-22995 Filed 9-30-08; 8:45 am]

BILLING CODE 4410-15-P